NUCLEAR REGULATORY COMMISSION

[NRC-2013-0021]

Quality Assurance Program Requirements (Operations)

AGENCY: Nuclear Regulatory Commission.

ACTION: Draft regulatory guide; request for comment.

SUMMARY: The U.S. Nuclear Regulatory Commission (NRC) is issuing for public comment draft regulatory guide (DG), DG-1300, “Quality Assurance Program Requirements (Operations).”

DATES: Submit comments by April 1, 2013. Comments received after this date will be considered if it is practical to do so, but the NRC is able to ensure consideration only for comments received on or before this date. Although a time limit is given, comments and suggestions in connection with items for inclusion in guides currently being developed or improvements in all published guides are encouraged at any time.

ADDRESSES: You may access information and comment submissions related to this document, which the NRC possesses and are publically available, by searching on http://www.regulations.gov under Docket ID NRC-2013-0021. You may submit comments by any of the following methods:

• Federal Rulemaking Web site: Go to http://www.regulations.gov and search for Docket ID NRC-2013-0021. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

For Additional Information Contact: Paul Prescott, Office of New Reactors, U.S. Nuclear Regulatory Commission, Washington, DC 20555-0001, telephone: 301-415-3026 or email: Paul.Prescott@nrc.gov.

SUPPLEMENTARY INFORMATION:

I. Accessing Information and Submitting Comments

A. Accessing Information

Please refer to Docket ID NRC-2013-0021 when contacting the NRC about the availability of information regarding this document. You may access information related to this document by any of the following methods:

• Federal Rulemaking Web site: Go to http://www.regulations.gov and search for Docket ID NRC-2013-0021.

NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The draft regulatory guide is available in ADAMS under Accession Number ML12276A071. The regulatory analysis may be found in ADAMS under Accession No. ML12276A072.

Regulatory guides are not copyrighted, and NRC approval is not required to reproduce them.

• NRC's PDR: You may examine and purchase copies of public documents at the NRC's PDR, Room O1-F21, One White Flint North, 11555 Rockville Pike, Rockville, Maryland 20852.

B. Submitting Comments

Please include Docket ID NRC-2013-0021 in the subject line of your comment submission, in order to ensure that the NRC is able to make your comment submission available to the public in this docket.

The NRC cautions you not to include identifying or contact information that that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a draft guide in the NRC's “Regulatory Guide” (RG) series. This series was developed to describe and make available to the public such information as methods that are acceptable to the NRC staff for implementing specific parts of the NRC's regulations, techniques that the staff uses in evaluating specific problems or postulated accidents, and data that the staff needs in its review of applications for permits and licenses.

This RG describes methods that the NRC staff considers acceptable for complying with the provision of part 50 of Title 10 of the Code of Federal Regulations (10 CFR) “Domestic Licensing of Production and Utilization Facilities,” 10 CFR 50.34(b)(6)(ii), Contents of applications; technical information, and 10 CFR Part 52 “Licenses, Certifications, and Approvals for Nuclear Power Plants,” 10 CFR 52.79(a)(27), Contents of applications; technical information in final safety analysis report. Both sections require compliance with 10 CFR Part 50, Appendix B, “Quality Assurance Criteria for Nuclear power Plants and Fuel Reprocessing Plants,” which, in part, requires the establishment of Quality Assurance (QA) controls for the implementation of managerial and administrative controls to assure safe operation.

The draft regulatory guide, entitled, “Quality Assurance Program Requirements (Operations),” is temporarily identified by its task number, DG-1300. The DG-1300 is proposed revision 3 of Regulatory Guide 1.33, dated Febuary 1978.

This revision (Revision 3) of RG 1.33 endorses ANSI/ANS 3.2-2012, “Managerial, Administrative, and Quality Assurance Controls for Operational Phase of Nuclear Power Plants,” which is an update to the standard that was endorsed in Revision 2, ANS 3.2/ANSI N18.7-1976, “Administrative Controls and Quality Assurance for the Operational Phase of Nuclear Power Plants.” The updated standard incorporates operational experience since the original standard was developed, and is better focused on QA of plant operations because information on QA of design and construction was moved to another standard. The NRC staff has reviewed ANSI/ANS 3.2-2012 and determined that the revised standard provides acceptable guidance on QA of plant operations. The staff's review is documented in the ANS 3.2 Side-By-Side Comparison (ML12276A076).

III. Backfitting and Issue Finality

Issuance of this final regulatory guide does not constitute backfitting as defined in 10 CFR 50.109 (the Backfit Rule) and is not otherwise inconsistent with the issue finality provisions in 10 CFR Part 52. As discussed in the “Implementation” section of this regulatory guide, the NRC has no current intention to impose this regulatory guide on holders of current operating licenses or combined licenses.

This regulatory guide may be applied to applications for operating licenses and combined licenses docketed by the NRC as of the date of issuance of the final regulatory guide, as well as future applications for operating licenses and combined licenses submitted after the issuance of the regulatory guide. Such action does not constitute backfitting as defined in 10 CRF 50.109(a)(1) or is otherwise inconsistent with the applicable issue finality provision in 10 CFR part 52, inasmuch as such applicants or potential applicants are not within the scope of entities protected by the Backfit Rule or the relevant issue finality provisions in part 52.

Dated at Rockville, Maryland, this 25th day of January 2013.
For the Nuclear Regulatory Commission.
Thomas H. Boyce,
Chief, Regulatory Guide Development Branch, Division of Engineering, Office of Nuclear Regulatory Research.

[FR Doc. 2013-02349 Filed 2-1-13; 8:45 am]

BILLING CODE 7590-01-P